DEPARTMENT OF DEFENSE

Department of the Air Force

Privacy Act of 1974; System of Records

AGENCY: Department of the Air Force, DoD.

ACTION: Notice to add a record system.

SUMMARY: The Department of the Air Force proposes to add a system of records notice to its inventory of records systems subject to the Privacy Act of 1974 (5 U.S.C. 552a), as amended.

DATES: The actions will be effective on November 13, 2003 unless comments are received that would result in a contrary determination.

ADDRESSES: Send comments to the Air Force FOIA/Privacy Manager, AF-CIO/P, 1155 Air Force Pentagon, Washington, DC 20330-1155.

FOR FURTHER INFORMATION CONTACT: Mrs. Anne P. Rollins at (703) 601-4043.

SUPPLEMENTARY INFORMATION: The Department of the Air Force's record system notices for records systems subject to the Privacy Act of 1974 (5 U.S.C. 552a), as amended, have been published in the Federal Register and are available from the address above.

The proposed system report, as required by 5 U.S.C. 522a(r) of the Privacy Act of 1974, as amended, was submitted on September 23, 2003, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: September 30, 2003.
Patricia Toppings,
Alternate OSD Federal Register Liaison Officer, Department of Defense.

F065 AF A

System name:

Time and Attendance Feeder Records.

System location:

Organizational elements of the Department of the Air Force, and headquarters of Combatant Commands for which Air Force is executive agent. Official mailing addresses are published as an appendix to the Air Force's compilation of systems of records notices.

Categories of individuals covered by the system:

Personnel assigned to the Air Force and Combatant Commands under the auspices of the Department of the Air Force.

Categories of records in the system:

Time and attendance data and labor distribution data that includes name, Social Security Number, work location, job order number, task orders, leave accrual data, occupational series, grade, pay period identification, time card certification information, special pay categories, work schedule, etc.

Authority for maintenance of the system:

10 U.S.C. 8013, Secretary of the Air Force and E.O. 9397 (SSN).

Purpose(s):

To track time and attendance and labor distribution data for management and manpower decision support and for financial purposes.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses' published at the beginning of the Air Force's compilation of systems of records notices apply to this system.

Policies and practices for storing, retrieving, accessing, retaining, and disposing of records in the system:

Storage:

Maintained in file folders, in computers and on computer output products.

Retrievability:

Retrieved by name, Employee Identification Number or Social Security Number.

Safeguards:

Records are accessed by person(s) responsible for servicing the record system in performance of their official duties and by authorized personnel who are properly screened and cleared for need-to-know. Records are stored in locked rooms and cabinets. Those in computer storage devices are protected by computer system software

Retention and disposal:

Destroy reports generated at preparing activities when no longer needed. Destroy Individual Attendance and Overtime records after GAO audit or when 6 years old, whichever is sooner.

System manager(s) and address:

Commanding officers at Air Force organizations, offices, or functions to which the individual is assigned. Official mailing addresses are published as an appendix to the Air Force's compilation of systems of records notices.

Notification procedure:

Individuals seeking to determine whether information about themselves is contained in this system should address written inquiries to the commanding officer of their organization. Official mailing addresses are published as an appendix to the Air Force's compilation of records notices.

Inquiries should contain the individual's full name, home address, Social Security Number or Employee Identification Number, organization, pay period, and must be signed.

Record access procedures:

Individuals seeking access to records about themselves contained in this system of records should address written inquiries to the commanding officer of their organization. Official mailing addresses are published as an appendix to the Air Force's compilation of records notices.

Inquiries should contain the individual's full name, home address, Social Security Number or Employee Identification Number, organization, pay period, and must be signed.

Contesting record procedures:

The Air Force's rules for accessing records, and for contesting contents and appealing initial agency determinations are published in Air Force Instruction 37-132; 32 CFR part 806b; or may be obtained from the system manager.

Record source categories:

Individual; time sheets; and work schedules.

Exemptions claimed for the system:

None.

[FR Doc. 03-25852 Filed 10-10-03; 8:45 am]

BILLING CODE 5001-08-P